DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection: Agreement and Undertaking (OWCP-1). A copy of the proposed information collection request can be obtained by contacting the office listed below in the addressee section of this Notice.

DATES: Written comments must be submitted to the office listed in the addressee section below on or before October 15, 2002.

ADDRESSES: Ms. Patricia A. Forkel, U.S. Department of Labor, 200 Cnstitution Ave., NW., Room S-3201, Washington, DC 20210, telephone (202) 693-0339, fax (202) 693-1451, e-mail pforkel@fenix2.dol-esa.gov. Please use only one method of transmission for comments (mail, fax, or e-mail).

I. Background

Coal mine operators and longshore companies desiring to be self-insurers are required by law (30 U.S.C. 933, Black Lung Benefits Act) and 33 U.S.C. 932 (Longshore and Harbor Workers' Compensation Act) to produce security in terms of an indemnity bond, security deposit, or, for Black Lung only, a letter of credit or 501(c)(21) trust. Once a company's application to become self-insured is reviewed by the Division of Coal Mine Workers' Compensation (DCMWC) or by the Division of Longshore and Harbor Workers' Compensation (DLHWC) and it is determined the company is potentially eligible, an amount of security is determined to guarantee the payment of benefits required by the Act. The OWCP-1 form is executed by the self-insurer who agrees to abide by the Department's rules and authorizes the Secretary, in the event of default, to file suit to secure payment from a bond underwriter or, in the case of a Federal Reserve account, to sell the securities for the same purpose. Regulations establishing this requirement are at 20 CFR 726.110 for DCMWC and 20 CFR 703.304 for DLHWC. A company cannot be authorized to self-insure until this requirement is met. This information collection is currently approved for use through January 31, 2003.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility and clarity of the information to be collected; and

* Minimize the burden of the collection of information on those who are to respond, including through the use of appropriate automated, electronic, mechanical, or other technological collection techniques or other forms of information technology, e.g., permitting electronic submissions of responses.

III. Current Actions

The Department of Labor seeks the extension of approval to collect this information in order to determine if a coal mine or longshore company is potentially eligible to become self-insured. The information is reviewed to deposited, indemnity bond is purchased, letter of credit is obtained, or 501(c)(21) trust assets are available; and that in case of default, OWCP has the authority to utilize the securities or bond. If this Agreement and Undertaking were not required, OWCP would not be empowered to utilize the company's security deposit to meet its financial responsibilities for the coal mine or longshore benefits in case of default. There is no change in this information collection since the last OMB clearance.

Type of Review: Extension.

Agency: Employment Standards Administration.

Title: Agreement and Undertaking.

OMB Number: 1215-0034.

Agency Number: OWCP-1.

Affected Public: Businesses or other for-profit.

Total Respondents: 300.

Frequency: On occasion.

Total Responses: 300.

Average Time per Response: 15 minutes.

Estimated Total Burden Hours: 75.

Total Burden Cost (capital/startup): $0.

Total Burden Cost (operating/maintenance): $120.

Comments submitted in response to this notice will be summarized and/or included in the request for Office of Management and Budget approval of the information collection request; they will also become a matter of public record.

Dated: August 8, 2002.
Margaret J. Sherrill,
Chief, Branch of Management Review and Internal Control, , Division of Financial Management, Office of Management, Administration and Planning, Employment Standards Administration.

[FR Doc. 02-20610 Filed 8-13-02; 8:45 am]

BILLING CODE 4510-CK-P